DEPARTMENT OF COMMERCE

International Trade Administration

[A-588-869]

Diffusion-Annealed, Nickel-Plated Flat-Rolled Steel Products From Japan: Final Results of Antidumping Duty Administrative Review; 2019-2020

AGENCY: Enforcement and Compliance, International Trade Administration, Department of Commerce.

SUMMARY: The Department of Commerce (Commerce) finds that diffusion-annealed, nickel-plated flat-rolled steel products from Japan were made at less than normal value during the period of review (POR), May 1, 2019, through April 30, 2020.

DATES: Applicable January 31, 2022.

FOR FURTHER INFORMATION CONTACT: Amaris Wade, AD/CVD Operations, Office II, Enforcement and Compliance, International Trade Administration, U.S. Department of Commerce, 1401 Constitution Avenue NW, Washington, DC 20230; telephone: (202) 482-3874.

SUPPLEMENTARY INFORMATION:

Background

This review covers one producer/exporter of the subject merchandise, Toyo Kohan Co., Ltd. (Toyo Kohan). On July 30, 2021, Commerce published the Preliminary Results and invited interested parties to comment.¹ On August 30, 2021, we received case briefs from the petitioner ² and Toyo Kohan.³ On September 13, 2021, we received a rebuttal brief from the petitioner.⁴ On November 17, 2021, we extended the final results until no later than January 26, 2022.⁵

¹ See Diffusion-Annealed, Nickel-Plated Flat-Rolled Steel Products from Japan: Preliminary Results of Antidumping Duty Administrative Review; 2019-2020, 86 FR 41018 (July 30, 2021) (Preliminary Results), and accompanying Preliminary Decision Memorandum (PDM).

² The petitioner is Thomas Steel Strip Corporation.

³ See Petitioner's Letter, “Case Brief of Thomas Steel Strip Corporation,” dated August 30, 2021; and Toyo Kohan's Letter, “Toyo Kohan's Case Brief,” dated August 30, 2021.

⁴ See Petitioner's Letter, “Rebuttal Brief of Thomas Steel Strip Corporation,” dated September 10, 2021.

⁵ See Memorandum, “Extension of Deadline for Final Results of the 2019-2020 Antidumping Duty Administrative Review,” dated November 17, 2021.

Scope of the Order

The merchandise subject to the order is diffusion-annealed, nickel-plated flat-rolled steel products from Japan. The product is currently classified under the Harmonized Tariff Schedule of the United States (HTSUS) subheadings 7212.50.0000 and 7210.90.6000. Although the HTSUS subheadings are provided for convenience and customs purposes, the written product description remains dispositive.⁶

⁶ For a full description of the scope of the order, see Preliminary Results PDM at 2-3.

Analysis of Comments Received

All issues raised in the case and rebuttal briefs are listed in the appendix to this notice and addressed in the Issues and Decision Memorandum.⁷ Interested parties can find a complete discussion of these issues and the corresponding recommendations in this public memorandum, which is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

⁷ See Memorandum, “Issues and Decision Memorandum for the Final Results of the 2019-2020 Administrative Review of the Antidumping Duty Order on Diffusion-Annealed, Nickel-Plated Flat-Rolled Steel Products from Japan,” dated concurrently with, and hereby adopted by, this notice (Issues and Decision Memorandum).

Changes Since the Preliminary Results

Based on the comments received from interested parties, we made certain changes to our calculations in the Preliminary Results. For a discussion of these issues, see the Issues and Decision Memorandum.

Final Results of Administrative Review

As a result of this review, we determine the following weighted-average dumping margin for the period May 1, 2019, through April 30, 2020:

Producer or exporter | Weighted- average dumping margin (percent)
Toyo Kohan Co., Ltd | 7.49

Disclosure of Calculations

We intend to disclose the calculations performed for Toyo Kohan in connection with these final results within five days of the date of publication of this notice, in accordance with 19 CFR 351.224(b).

Assessment Rates

Pursuant to section 751(a)(2)(C) of the Tariff Act of 1930, as amended (the Act), and 19 CFR 351.212(b)(1), Commerce has determined, and U.S. Customs and Border Protection (CBP) shall assess, antidumping duties on all appropriate entries of subject merchandise in accordance with the final results of this review.

Pursuant to 19 CFR 351.212(b)(1), Toyo Kohan reported the entered value of its U.S. sales such that we calculated importer-specific ad valorem duty assessment rates based on the ratio of the total amount of dumping calculated for the examined sales to the total entered value of the sales for which entered value was reported. Where the weighted-average dumping margin for Toyo Kohan is zero or de minimis within the meaning of 19 CFR 351.106(c)(1), or an importer-specific assessment rate is zero or de minimis, we will instruct CBP to liquidate the appropriate entries without regard to antidumping duties.

Commerce's “automatic assessment” will apply to entries of subject merchandise during the POR produced by Toyo Kohan for which the reviewed company did not know that the merchandise it sold to the intermediary (e.g., a reseller, trading company, or exporter) was destined for the United States. In such instances, we will instruct CBP to liquidate unreviewed entries at the all-others rate if there is no rate for the intermediate company(ies) involved in the transaction.⁸

⁸ For a full discussion of this practice, see Antidumping and Countervailing Duty Proceedings: Assessment of Antidumping Duties, 68 FR 23954 (May 6, 2003).

Commerce intends to issue assessment instructions to CBP no earlier than 35 days after the date of publication of the Final Results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) The cash deposit rate for Toyo Kohan will be equal to the weighted-average dumping margin established in the final results of this review, except if the rate is less than 0.50 percent and, therefore, de minimis within the meaning of 19 CFR 351.106(c)(1), in which case the cash deposit rate will be zero; (2) for previously reviewed or investigated companies not covered in this review, the cash deposit rate will continue to be the company-specific cash deposit rate published for the most recently completed segment in which the company was reviewed; (3) if the exporter is not a firm covered in this review, a prior review, or the original less-than-fair-value (LTFV) investigation, but the producer is, then the cash deposit rate will be the cash deposit rate established for the most recently completed segment of this proceeding for the producer of the merchandise; and (4) the cash deposit rate for all other producers or exporters will continue to be 45.42 percent, the all-others rate established in the LTFV investigation.⁹ These deposit requirements, when imposed, shall remain in effect until further notice.

⁹ See Diffusion-Annealed, Nickel-Plated Flat-Rolled Steel Products from Japan: Antidumping Duty Order, 79 FR 30816 (May 29, 2014).

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification Regarding Administrative Protective Order

This notice serves as the only reminder to parties subject to administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

This notice is issued and published in accordance with sections 751(a)(1) and 777(i)(1) of the Act.

Dated: January 26, 2022.
Lisa W. Wang,
Assistant Secretary for Enforcement and Compliance.

Appendix

List of Topics Discussed in the Issues and Decision Memo

I. Summary

II. Background

III. Margin Calculations

IV. Discussion of the Issues

Comment 1: The U.S. Date of Sale

Comment 2: Which Control Number (CONNUM) to Use for Downstream Home Market Sales Made by Kohan Shoji Co., Ltd. (Kohan Shoji)

V. Recommendation

[FR Doc. 2022-01932 Filed 1-28-22; 8:45 am]

BILLING CODE 3510-DS-P